SMALL BUSINESS ADMINISTRATION

[Disaster Declaration #16876 and #16877; TEXAS Disaster Number TX-00591]

Presidential Declaration of a Major Disaster for the State of Texas

AGENCY: U.S. Small Business Administration.

ACTION: Notice.

SUMMARY: This is a Notice of the Presidential declaration of a major disaster for the State of Texas (FEMA-4586-DR), dated 02/19/2021.

Incident: Severe Winter Storms.

Incident Period: 02/11/2021 and continuing.

DATES: Issued on 02/19/2021.

Physical Loan Application Deadline Date: 04/20/2021.

Economic Injury (EIDL) Loan Application Deadline Date: 11/19/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 02/19/2021, applications for disaster loans may be filed at the address listed above or other locally announced locations.

The following areas have been determined to be adversely affected by the disaster:

Primary Counties (Physical Damage and Economic Injury Loans):

Angelina, Aransas, Bastrop, Bee, Bell, Bexar, Blanco, Brazoria, Brazos, Brown, Burleson, Caldwell, Calhoun, Cameron, Chambers, Collin, Comal, Comanche, Cooke, Coryell, Dallas, Denton, Dewitt, Ellis, Falls, Fort Bend, Galveston, Gillespie, Grimes, Guadalupe, Hardin, Harris, Hays, Henderson, Hidalgo, Hood, Jasper, Jefferson, Johnson, Kaufman, Kendall, Lavaca, Liberty, Madison, Matagorda, Maverick, McLennan, Montague, Montgomery, Nacogdoches, Nueces, Orange, Palo Pinto, Panola, Parker, Polk, Rockwall, Sabine, San Jacinto, San Patricio, Scurry, Shelby, Smith, Stephens, Tarrant, Travis, Tyler, Upshur, Van Zandt, Victoria, Walker, Waller, Wharton, Wichita, Williamson, Wilson, Wise.

Contiguous Counties (Economic Injury Loans Only):

Texas: Anderson, Archer, Atascosa, Austin, Bandera, Baylor, Borden, Bosque, Brooks, Burnet, Callahan, Camp, Cherokee, Clay, Coleman, Colorado, Dimmit, Eastland, Erath, Fannin, Fayette, Fisher, Freestone, Garza, Goliad, Gonzales, Grayson, Gregg, Hamilton, Harrison, Hill, Houston, Howard, Hunt, Jack, Jackson, Jim Wells, Karnes, Kenedy, Kent, Kerr, Kimble, Kinney, Kleberg, Lampasas, Lee, Leon, Limestone, Live Oak, Llano, Marion, Mason, McCulloch, Medina, Milam, Mills, Mitchell, Morris, Navarro, Newton, Nolan, Rains, Refugio, Robertson, Rusk, San Augustine, San Saba, Shackelford, Somervell, Starr, Throckmorton, Trinity, Uvalde, Washington, Webb, Wilbarger, Willacy, Wood, Young, Zavala.

Louisiana: Caddo, Calcasieu, Cameron, De Soto, Sabine.

Oklahoma: Cotton, Jefferson, Love, Tillman.

The Interest Rates are:

| Percent
For Physical Damage:
Homeowners with Credit Available Elsewhere | 2.500
Homeowners without Credit Available Elsewhere | 1.250
Businesses with Credit Available Elsewhere | 6.000
Businesses without Credit Available Elsewhere | 3.000
Non-Profit Organizations with Credit Available Elsewhere | 2.000
Non-Profit Organizations without Credit Available Elsewhere | 2.000
For Economic Injury:
Businesses & Small Agricultural Cooperatives without Credit Available Elsewhere | 3.000
Non-Profit Organizations without Credit Available Elsewhere | 2.000

The number assigned to this disaster for physical damage is 16876 7 and for economic injury is 16877 0.

(Catalog of Federal Domestic Assistance Number 59008)

Cynthia Pitts,
Acting Associate Administrator for Disaster Assistance.

[FR Doc. 2021-04198 Filed 2-26-21; 8:45 am]

BILLING CODE 8026-03-P